DEPARTMENT OF TRANSPORTATION

Federal Transit Administration Federal Register Notice

National Fuel Cell Bus Technology Development Program

AGENCY: Federal Transit Administration (FTA), DOT.

ACTION: Notice of funding availability; competitive solicitation for funding through the National Fuel Cell Bus Technology Development Program.

SUMMARY: This competitive solicitation is for fiscal year 2006-2009 funding, subject to congressional appropriations action, for the new National Fuel Cell Bus Technology Development Program (NFCBP), administered by the Federal Transit Administration. The purpose of the program is to facilitate the development of commercially viable fuel cell bus technology and related infrastructure. FTA intends to enter into grants, contracts, and cooperative agreements with no more than 3 geographically diverse nonprofit organizations and recipients under chapter 53 of title 49, United States Code, to conduct fuel cell bus technology and infrastructure projects under the program. Regional consortia in partnership with transit agencies are encouraged to apply. The Federal share of the cost of a project carried out under this Program shall not exceed 50 percent of such cost.

DATES: White papers must be received by FTA by the close of business May 10, 2006. Full proposals for the selected papers must be received by FTA by the close of business July 14, 2006. Close of business for FTA is 5:30 p.m. eastern time zone.

ADDRESSES: White papers and full proposals for the selected white papers must be submitted to Shang Hsiung, Office of Research, Demonstrations and Innovation, Mail Code: TRI-10, Federal Transit Administration, 400 Seventh Street SW., Washington, DC 20590. Phone: 202-366-0241, or e-mail: shang.hsiung@dot.gov. The Solicitation Guidelines including the submission requirements are available at http://www.fta.dot.gov/. Submissions must be received by the deadline.

FOR FURTHER INFORMATION CONTACT: Contact Shang Hsiung, Office of Research, Demonstration and Innovation, Federal Transit Administration, 400 Seventh Street SW., Washington, DC 20590, 202-366-0241, e-mail: shang.hsiung@dot.gov.

SUPPLEMENTARY INFORMATION:

Table of Contents

1. General Program Information

2. Solicitation Guidelines

3. Solicitation Schedule

4. Additional Program Information

I. General Program Information

A. Authority

Section 3045 of the Safe, Accountable, Flexible, Efficient Transportation Equity Act—A Legacy for Users of 2005 (SAFETEA-LU) establishes a new program called the National Fuel Cell Bus Technology Development Program (49 U.S.C. 5308, note). SAFETEA-LU authorizes $49 million in funding for the program for fiscal years 2006 through 2009. For fiscal year 2006, Congress appropriated $11,138,000 for the NFCBP.

B. Background

Transit continues to be in the forefront of the research, development, demonstration, and deployment of clean and energy efficient vehicle technologies. Factors that have made transit buses the vanguard for alternative fuels and hybrid electric systems are just as applicable in helping lead the introduction of fuel cell vehicle technologies into transportation applications. Bus weight and volume packaging constraints are less rigorous than cars. Unlike personal automobiles where we expect to turn the key and to immediately drive away, buses undergo a check-out procedure prior to the driver starting his or her run. Transit buses are centrally fueled and stored at discrete locations, whereas we all expect to be able to fill up our cars anywhere and everywhere. The fleet operation aspect of transit buses creates a more manageable and finite re-fueling infrastructure requirement, and can assist in the development of the overall transportation re-fueling infrastructure required. Transit buses are driven and maintained by professionals, easing the introduction of a new power plant. Perhaps most importantly, transit buses operate in the most densely populated corridors of our urban areas. Fuel cell buses could provide greater public exposure to the safe operation of zero emission vehicles leading to broader acceptance of this technology. The operational and maintenance experience gained from the early introduction of fuel cell vehicle technologies into buses could enhance its successful application in trucks and cars.

The U.S. Department of Transportation's Federal Transit Administration (FTA) played an instrumental role in spurring the adoption of natural gas buses into routine revenue service operations. It is playing a similar role in helping to accelerate the adoption of electric drive technologies—battery electric, hybrid electric, and hydrogen fuel cell buses. The President's FreedomCAR and Hydrogen Fuel Initiative which are focused on light-duty vehicles have set forth bold visions for tackling our Nation's goals of energy independence and cleaner air without sacrificing personal mobility. FTA's expertise and experience in alternative fuels and hybrid electric systems for transit buses and its proven track record of successfully moving clean, fuel efficient buses from the drawing board to the street, make FTA the ideal agency to lead and implement a program to complement and support the Presidential Initiatives.

C. Eligible Applicants

Section 3045(b) directs the Secretary of Transportation to conduct a national solicitation for applications under the NFCBP. Recipients shall be selected on a competitive basis. The Secretary may enter into a grant, contract, or cooperative agreement with no more than three regionally diverse non-profit organizations and recipients (i.e., transit agencies eligible to receive FTA financial assistance). For-profit private entities or non-recipients of FTA funds are encouraged to partner with eligible non-profit organizations or recipients. Since the goal of the NCFBP is to facilitate the development of commercially viable fuel cell bus technology and related infrastructure, regional, multi-state advanced transportation technology consortia in partnership with transit agencies are specifically encouraged to apply. Section 3045(d) also directs that priority consideration be given to applicants that have successfully managed advanced transportation technology projects, including projects related to hydrogen and fuel cell public transportation operations for a period of not less than five years. The Federal share of the cost of a project carried out under this Program shall not exceed 50 percent of such cost.

D. Eligibility Criteria

Section 3045(c) establishes the statutory criteria for evaluating eligible applications. The criteria are the following:

1. ability to contribute significantly to furthering fuel cell technology as it relates to transit bus operations, including hydrogen production, energy storage, fuel cell technologies, vehicle systems integration, and power electronics technologies;

2. financing plan and cost share potential;

3. fuel cell technology to ensure that the program advances different fuel cell technologies, including hydrogen-fueled and methanol-powered liquid-fueled fuel cell technologies, that may be viable for public transportation systems; and

4. other criteria that the Secretary determines are necessary to carry out the program.

FTA believes that the first three criteria provide a sufficient basis on which to evaluate applications; thus, FTA has determined that additional criteria under paragraph 4 are unnecessary. If warranted, however, criteria and application procedures may be reassessed for subsequent years, and FTA will provide adequate notice and an opportunity to comment on any proposed changes.

E. Application Evaluation Criteria

Consistent with the criteria identified in Section 3045(c), applications will be evaluated based on the following elements:

• Ability to contribute significantly to furthering fuel cell technology as it relates to transit bus operations, including hydrogen production, energy storage, fuel cell technologies, vehicle systems integration, and power electronics technologies;

• Financing plan and cost share potential; and

• Fuel cell technology to ensure that the program advances different fuel cell technologies, including hydrogen-fueled and methanol-powered liquid-fueled fuel cell technologies, that may be viable for public transportation systems.

Section 3045(d) also states that priority consideration will be given to applicants that have successfully managed advanced transportation technology projects, including projects related to hydrogen and fuel cell public transportation operations for a period of not less than five years.

II. Solicitation Guidelines

The competitive solicitation process including the submission requirements for the National Fuel Cell Bus Technology Development Program are available at http://www.fta.dot.gov. Click on the navigational tab for Grant Programs on the right hand side, then click on the Grant Programs link, and then click on the link for the National Fuel Cell Bus Technology Development Program. To receive the Solicitation Guidelines by e-mail, please send an e-mail to shang.hsiung@dot.gov. A synopsis of this announcement will also be posted in the FIND module of the government-wide electronic grants Web site at http://www.grants.gov.

Projects requiring multi-year funding may be submitted. Note that funding in future fiscal years is not guaranteed and will be contingent upon the annual appropriation process.

In order to minimize the effort required for proposal preparation and review, the selection will take place in two phases. First, non-profit organizations and recipients will prepare white papers for FTA to review, comment and select. The non-profit organizations and recipients will then prepare full proposals based on the best efforts selected by FTA.

III. Solicitation Schedule

The following is the timeline for the competitive solicitation under the NFCBP:

• May 10, 2006—White Papers due.

• June 9, 2006—FTA selects White Papers and notifies all applicants.

• July 14—Full Proposals based on White Papers selected due.

• August 14, 2006—FTA announces awards.

Details are contained in the Solicitation Guidelines available at http://www.fta.dot.gov. All deadline times are 5:30 p.m. eastern time zone.

IV. Additional Program Information

A. Funds Administration and Oversight

Section 3045(f) of SAFETEA-LU directs the Secretary to apply the requirements of 49 U.S.C. 5309 (Capital Investment Grants) to the projects awarded under this program and “such other terms and conditions as are determined by the Secretary.” FTA has reviewed the terms of its Capital Investment Grant program and does not believe additional terms and conditions are necessary. The NFCBP is inherently a research, development, and demonstration program; and such project activities to facilitate the development of commercially viable fuel cell bus technology and related infrastructure is allowed.

Recipients of federal funds under 49 USC 5309 must comply with the general federal guidelines governing the management of federal funds, which are outlined in FTA's Master Agreement, available on FTA's Web site (http://www.fta.dot.gov). To this point, FTA will conduct reviews to ensure that projects under the NFCBP meet the basic statutory, administrative, and regulatory requirements as stipulated by the conditions for accepting Federal funds.

B. Performance Measures

Participants may be asked to collect and report data to FTA for use in measuring program performance.

Issued in Washington, DC, this 7th day of April, 2006.
Sandra K. Bushue,
Deputy Administrator.

[FR Doc. 06-3606 Filed 4-13-06; 8:45 am]

BILLING CODE 4910-57-M